DEPARTMENT OF TRANSPORTATION

Surface Transportation Board

[STB Docket No. AB-439 (Sub-No. 6X); STB Docket No. AB-585 (Sub-No. 1X)]

Dallas Area Rapid Transit—Abandonment Exemption—in Collin County, TX; Dallas, Garland and Northeastern Railroad—Discontinuance of Service Exemption—in Collin County, TX

Dallas Area Rapid Transit (DART), a political subdivision of the State of Texas, and Dallas, Garland and Northeastern Railroad (DGNO), a Class III rail carrier, have jointly filed a notice of exemption under 49 CFR part 1152 subpart F—Exempt Abandonments and Discontinuances of Service for DART to abandon, and for DGNO to discontinue service, over approximately 8.85 miles of railroad, between milepost 281.65, near Plano, and milepost 290.5, near Allen, in Collin County, TX.¹ The line traverses United States Postal Service Zip Codes 75023, 75024, 75025, 75026, 75074, 75075, 75086, 75093, 75094, 75002, and 75013.

¹ The line is currently owned by DART. DGNO has trackage rights over the portion of the line from milepost 281.65 to milepost 285.1, and a lease for freight operations over the segment between mileposts 285.1 and 290.5.

DART and DGNO have certified that: (1) No local traffic has moved over the line for at least 2 years; (2) any overhead traffic on the line can be rerouted over other lines; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to this exemption, any employee adversely affected by the abandonment shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, these exemptions will be effective on May 16, 2006,² unless stayed pending reconsideration. Petitions to stay that do not involve environmental issues,³ formal expressions of intent to file an OFA under 49 CFR 1152.27(c)(2),⁴ and trail use/rail banking requests under 49 CFR 1152.29 must be filed by April 24, 2006. Petitions to reopen or requests for public use conditions under 49 CFR 1152.28 must be filed by May 4, 2006, with the Surface Transportation Board, 1925 K Street, NW., Washington, DC 20423-0001.

² DART states that it intends to rail bank the line under the National Trails System Act, 16 U.S.C. 1247(d) (Trails Act). In order to rail bank the line in its own name, DART must file with the Board a request for the imposition of a trail use/rail banking condition in compliance with Trails Act regulations.

³ The Board will grant a stay if an informed decision on environmental issues (whether raised by a party or by the Board's Section of Environmental Analysis (SEA) in its independent investigation) cannot be made before the exemptions' effective date. See Exemption of Out-of-Service Rail Lines, 5 I.C.C.2d 377 (1989). Any request for a stay should be filed as soon as possible so that the Board may take appropriate action before the exemptions' effective date.

⁴ Each OFA must be accompanied by the filing fee, which currently is set at $1,200, and will increase to $1,300, effective April 19, 2006. See Regulations Governing Fees for Services Performed in Connection with Licensing and Related Services—2006 Update, STB Ex Parte No. 542 (Sub-No. 13) (STB served Mar. 20, 2006).

A copy of any petition filed with the Board should be sent to applicants' representatives: Edward J. Fishman and Janie Sheng, Kirkpatrick & Lockhart Nicholson Graham LLP, 1601 K Street, NW., Washington, DC 20036; and Gary Laakso, Dallas, Garland and Northeastern Railroad, c/o RailAmerica, Inc., 5300 Broken Sound Boulevard, NW., 2nd Floor, Boca Raton, FL 33487.

If the verified notice contains false or misleading information, the exemption is void ab initio.

DART and DGNO have filed an environmental report which addresses the effects, if any, of the abandonment and discontinuance on the environment and historic resources. SEA will issue an environmental assessment (EA) by April 21, 2006. Interested persons may obtain a copy of the EA by writing to SEA (Room 500, Surface Transportation Board, Washington, DC 20423) or by calling SEA, at (202) 565-1539. [Assistance for the hearing impaired is available through the Federal Information Relay Service (FIRS) at 1-800-877-8339.] Comments on environmental and historic preservation matters must be filed within 15 days after the EA becomes available to the public.

Environmental, historic preservation, public use, or trail use/rail banking conditions will be imposed, where appropriate, in a subsequent decision.

Pursuant to the provisions of 49 CFR 1152.29(e)(2), DART shall file a notice of consummation with the Board to signify that it has exercised the authority granted and fully abandoned the line. If consummation has not been effected by DART's filing of a notice of consummation by April 14, 2007, and there are no legal or regulatory barriers to consummation, the authority to abandon will automatically expire.

Board decisions and notices are available on our Web site at “http://www.stb.dot.gov.”

Decided: April 10, 2006.
By the Board, Joseph H. Dettmar, Acting Director, Office of Proceedings.
Vernon A. Williams,
Secretary.

[FR Doc. E6-5545 Filed 4-13-06; 8:45 am]

BILLING CODE 4915-01-P